FEDERAL RETIREMENT THRIFT INVESTMENT BOARD

Sunshine Act; Notice of Meeting

TIME AND DATE: 10 a.m. (Eastern Time), September 15, 2008.

PLACE: 4th Floor Conference Room, 1250 H Street, NW., Washington, DC 20005.

STATUS: Parts will be open to the public and parts closed to the public.

MATTERS TO BE CONSIDERED:

Parts Open to the Public

1. Approval of the minutes of the August 18, 2008 Board member meeting.

2. Thrift Savings Plan activity report by the Executive Director.

a. Monthly Participant Activity Report.

b. Monthly Investment Performance Report.

c. Legislative Report.

3. Acquisition of SI International by Serco, Inc.

4. Planning for Potential Emergency Asset Transfer.

5. Annual Budget Report.

a. Fiscal Year 2008 Results.

b. Fiscal Year 2009 Budget.

c. Fiscal Year 2010 Estimate.

Parts Closed to the Public

6. Procurement.

CONTACT PERSON FOR MORE INFORMATION: Thomas J. Trabucco, Director, Office of External Affairs, (202) 942-1640.

Dated: September 4, 2008.
Thomas K. Emswiler,
Secretary, Federal Retirement Thrift Investment Board.

[FR Doc. E8-20931 Filed 9-4-08; 4:15 pm]

BILLING CODE 6760-01-P